FEDERAL COMMUNICATIONS COMMISSION

47 CFR Part 73

[DA 05-3214; MB Docket No. 01-229, RM-10257, RM-11285, RM-11291; and MB Docket No. 01-231, RM-10259, RM-11285.]

Radio Broadcasting Services; Caseville, Harbor Beach, Lexington, and Pigeon, MI

AGENCY: Federal Communications Commission.

ACTION: Final rule.

SUMMARY: The Audio Division, at the request of Katherine Pyeatt, allots Channel 267A at Pigeon, Michigan, as the community's first local FM service. Channel 267A can be allotted to Pigeon, Michigan, in compliance with the Commission's minimum distance separation requirements with a site restriction of 9.9 km (6.2 miles) east of Pigeon. The coordinates for Channel 267A at Pigeon, Michigan, are 43-51-44 North Latitude and 83-09-17 West Longitude. Concurrence in the allotment by the Government of Canada is required because the proposed allotment is located within 320 kilometers (199 miles) of the U.S.-Canadian border. Although Canadian concurrence has been requested, notification has not yet been received. If a construction permit for Channel 267A at Pigeon, Michigan, is granted prior to receipt of formal concurrence by the Canadian government, the authorization will include the following condition: “Operation with the facilities specified herein for Pigeon, Michigan, is subject to modification, suspension, or termination without right to hearing, if found by the Commission to be necessary in order to conform to the Canada-United States FM Broadcast Agreement, or if specifically objected to by Industry Canada.” See SUPPLEMENTARY INFORMATION infra.

DATES: Effective January 30, 2006.

FOR FURTHER INFORMATION CONTACT: Deborah Dupont, Media Bureau, (202) 418-2180.

SUPPLEMENTARY INFORMATION: This is a synopsis of the Commission's Report and Order, MB Docket Nos. 01-229 and 01-231, adopted December 14, 2005, and released December 16, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

The Audio Division further, at the request of Edward Czelada, allots Channel 256A at Lexington, Michigan, as the community's second local FM service. Channel 256A can be allotted to Lexington, Michigan, in compliance with the Commission's minimum distance separation requirements with a site restriction of 11.9 km (7.4 miles) north of Lexington. The coordinates for Channel 256A at Lexington, Michigan, are 43-22-30 North Latitude and 82-32-04 West Longitude. The Government of Canada has concurred in the allotment.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Michigan, is amended by adding Channel 256A at Lexington and by adding Pigeon, Channel 267A.

Federal Communications Commission.
John A. Karousos,
Assistant Chief, Audio Division, Media Bureau.

[FR Doc. 06-41 Filed 1-3-06; 8:45 am]

BILLING CODE 6712-01-U